DEPARTMENT OF HOMELAND SECURITY

Federal Emergency Management Agency

44 CFR Part 65

[Docket ID FEMA-2011-0002; Internal Agency Docket No. FEMA-B-1235]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Deputy Federal Insurance and Mitigation Administrator reconsider the changes. The modified BFEs may be changed during the 90-day period.

ADDRESSES: The modified BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities. The changes in BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

The tables published under the authority of § 65.4 are amended as follows:

State and county | Location and case No. | Date and name of newspaper where notice was published | Chief executive officer of community | Effective date of modification | Community No.
Alabama:
Baldwin | City of Gulf Shores (11-04-5389P) | October 7, 2011; October 14, 2011; The Islander | The Honorable Robert S. Craft, Mayor, City of Gulf Shores, 1905 West 1st Street, Gulf Shores, AL 36547 | September 29, 2011 | 015005
Baldwin | City of Gulf Shores (11-04-6730P) | October 11, 2011; October 18, 2011; The Islander | The Honorable Robert S. Craft, Mayor, City of Gulf Shores, 1905 West 1st Street, Gulf Shores, AL 36547 | October 4, 2011 | 015005
Madison | City of Huntsville (11-04-3252P) | September 8, 2011; September 15, 2011; The Huntsville Times | The Honorable Tommy Battle, Mayor, City of Huntsville, 308 Fountain Circle, 8th Floor, Huntsville, AL 35801 | January 13, 2012 | 010153
Mobile | Unincorporated areas of Mobile County (11-04-1739P) | October 27, 2011; November 3, 2011; The Press-Register | The Honorable Merceria Ludgood, Chair, Mobile County Commission, 205 Government Street, Mobile, AL 36644 | March 2, 2012 | 015008
California:
Butte | Unincorporated areas of Butte County (11-09-3448P) | October 7, 2011; October 14, 2011; The Chico Enterprise-Record | The Honorable Steve Lambert, Chairman, Butte County Board of Supervisors, 3159 Nelson Avenue, Oroville, CA 95965 | February 13, 2012 | 060017
Napa | City of Napa (11-09-3313P) | October 14, 2011; October 21, 2011; The Napa Valley Register | The Honorable Jill Techel, Mayor, City of Napa, 955 School Street, Napa, CA 94559 | February 20, 2012 | 060207
Napa | Unincorporated areas of Napa County (11-09-3313P) | October 14, 2011; October 21, 2011; The Napa Valley Register | The Honorable Bill Dodd, Chairman, Napa County Board of Supervisors, 1195 3rd Street, Suite 310, Napa, CA 94559 | February 20, 2012 | 060205
San Mateo | City of San Carlos (11-09-1259P) | October 7, 2011; October 14, 2011; The San Mateo Daily Journal | The Honorable Andy Klein, Mayor, City of San Carlos, 600 Elm Street, San Carlos, CA 94070 | February 13, 2012 | 060327
Solano | City of Fairfield (11-09-1570P) | October 20, 2011; October 27, 2011; The Daily Republic | The Honorable Harry T. Price, Mayor, City of Fairfield, 1000 Webster Street, Fairfield, CA 94533 | February 24, 2012 | 060370
Colorado:
Adams | City of Commerce City (10-08-1048P) | October 25, 2011; November 1, 2011; The Commerce City Sentinel Express | The Honorable Paul Natale, Mayor, City of Commerce City, 7887 East 60th Avenue, Commerce City, CO 80022 | March 2, 2012 | 080006
Adams & Arapahoe | City of Aurora (11-08-0699P) | October 6, 2011; October 13, 2011; The Aurora Sentinel | The Honorable Ed Tauer, Mayor, City of Aurora, 15151 East Alameda Parkway, Aurora, CO 80012 | February 10, 2012 | 080002
Florida:
Broward | City of Deerfield Beach (11-04-7254P) | October 6, 2011; October 13, 2011; The Sun-Sentinel | The Honorable Peggy Noland, Mayor, City of Deerfield Beach, 150 Northeast 2nd Avenue, Deerfield Beach, FL 33441 | September 29, 2011 | 125101
St. Johns | Unincorporated areas of St. Johns County (11-04-4627P) | October 5, 2011; October 12, 2011; The St. Augustine Record | The Honorable Joseph Bryan. Chairman, St. Johns County Board of Commissioners, 500 San Sebastian View, St. Augustine, FL 32084 | February 9, 2012 | 125147
Seminole | City of Altamonte Springs (11-04-7292P) | October 27, 2011; November 3, 2011; The Orlando Sentinel | The Honorable Patricia Bates, Mayor, City of Altamonte Springs, 225 Newburyport Avenue, Altamonte Springs, FL 32701 | October 20, 2011 | 120290
Seminole | Unincorporated areas of Seminole County (11-04-7523P) | October 27, 2011; November 3, 2011; The Orlando Sentinel | The Honorable Brenda Carey, Chair, Seminole County Board of Commissioners, 1101 East 1st Street, Sanford, FL 32771 | October 20, 2011 | 120289
Georgia:
Columbia | Unincorporated areas of Columbia County (11-04-5127P) | November 2, 2011; November 9, 2011; The Columbia County News-Times | The Honorable Ron C. Ross, Chairman, Columbia County Board of Commissioners, 630 Ronald Reagan Drive Building B, 2nd Floor, Evans, GA 30809 | October 27, 2011 | 130059
Liberty | City of Hinesville (11-04-0768P) | September 30, 2011; October 7, 2011; The Coastal Courier | The Honorable James Thomas, Jr., Mayor, City of Hinesville, 115 East Martin Luther King, Jr. Drive, Hinesville, GA 31313 | September 26, 2011 | 130125
Liberty | Unincorporated areas of Liberty County (11-04-0768P) | September 30, 2011; October 7, 2011; The Coastal Courier | The Honorable John D. McIver, Chairman, Liberty County Board of Commissioners, 112 North Main Street, Hinesville, GA 31310 | September 26, 2011 | 130123
Mississippi: DeSoto | City of Olive Branch (11-04-4496P) | October 27, 2011; November 3, 2011; The DeSoto Times-Tribune | The Honorable Sam Rikard, Mayor, City of Olive Branch, 9200 Pigeon Roost Road, Olive Branch, MS 38654 | March 2, 2012 | 280286
Nevada:
Clark | City of Henderson (11-09-3801P) | October 6, 2011; October 13, 2011; The Las Vegas Review-Journal | The Honorable Andy A. Hafen, Mayor, City of Henderson, 240 Water Street, Henderson, NV 89015 | February 10, 2012 | 320005
Clark | Unincorporated areas of Clark County (11-09-3801P) | October 6, 2011; October 13, 2011; The Las Vegas Review-Journal | The Honorable Susan Brager, Chair, Clark County Board of Commissioners, 500 South Grand Central Parkway, Las Vegas, NV 89155 | February 10, 2012 | 320003
Utah: Box Elder | City of Willard (11-08-0207P) | September 28, 2011; October 5, 2011; The Box Elder News Journal | The Honorable Ken Braegger, Mayor, City of Willard, 80 West 50 South, Willard, UT 84340 | February 2, 2012 | 490011
Wyoming:
Campbell | City of Gillette (11-08-0780P) | October 18, 2011; October 25, 2011; The News-Record | The Honorable Tom Murphy, Mayor, City of Gillette, 201 East 5th Street, Gillette, WY 82717 | February 22, 2012 | 560007
Campbell | Unincorporated areas of Campbell County (11-08-0780P) | October 18, 2011; October 25, 2011; The News-Record | The Honorable Stephen F. Hughes, Chairman, Campbell County Board of Commissioners, 500 South Gillette Avenue, Suite 1100, Gillette, WY 82717 | February 22, 2012 | 560081

(Catalog of Federal Domestic Assistance No. 97.022, “Flood Insurance.”)

Dated: December 20, 2011.
Sandra K. Knight,
Deputy Associate Administrator for Mitigation, Department of Homeland Security, Federal Emergency Management Agency.

[FR Doc. 2011-33773 Filed 1-4-12; 8:45 am]

BILLING CODE 9110-12-P